Title 3—

The President

Proclamation 9948 of October 11, 2019

National School Lunch Week, 2019

By the President of the United States of America

A Proclamation

During National School Lunch Week, we recognize the school lunch programs across our country that nourish our children with nutritious, American-grown food that they need to learn in the classroom and work toward bright futures. By ensuring all students have access to well-balanced meals, we can help our Nation's youth maintain healthy lifestyles and help them achieve success in the classroom and beyond.

Established in 1946, the National School Lunch Program provides low-cost or free lunches to more than 29 million children in nearly 100,000 public and residential child-care institutions across our country. Since its creation, the number of students served by the program has quadrupled, and school cafeterias now serve nearly 5 billion lunches annually. This successful Federal, State, and local partnership would not be possible without the assistance of thousands of food service professionals, school administrators, community members, and parents. As a nation, we are grateful for those who go above and beyond to ensure all children are able to focus on their education and development instead of worrying about their next lunch.

America's farmers, ranchers, and producers also play a role in ensuring our children's plates are filled with healthy, domestically sourced foods. This year, my Administration awarded a record high of more than $9 million in Farm to School Program grants, increasing access to local food and strengthening links to agriculture for more than 3.2 million children in 42 States, the District of Columbia, and Puerto Rico. Through our efforts to increase the amount of local food in our country's schools, we are promoting the success of both our farmers and ranchers and our Nation's children.

To emphasize the importance of the National School Lunch Program to our youth's nutrition, the Congress, by joint resolution of October 9, 1962 (Public Law 87-780), has designated the week beginning on the second Sunday in October each year as “National School Lunch Week” and has requested the President to issue a proclamation in observance of this week.

NOW, THEREFORE, I, DONALD J. TRUMP, President of the United States of America, by virtue of the authority vested in me by the Constitution and the laws of the United States, do hereby proclaim October 13 through October 19, 2019, as National School Lunch Week. I call upon all Americans to join the countless individuals who administer the National School Lunch Program in activities that support and promote awareness of the health and well-being of our Nation's children.

IN WITNESS WHEREOF, I have hereunto set my hand this eleventh day of October, in the year of our Lord two thousand nineteen, and of the Independence of the United States of America the two hundred and forty-fourth.

[FR Doc. 2019-22797

Filed 10-16-19; 8:45 am]

Billing code 3295-F0-P